DEPARTMENT OF THE INTERIOR

Bureau of Reclamation

[RR83550000, 156R5065C6, RX.59389832.1009676]

Quarterly Status Report of Water Service, Repayment, and Other Water-Related Contract Actions

AGENCY: Bureau of Reclamation, Interior.

ACTION: Notice.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

LCWSP Lower Colorado Water Supply Project

M&I Municipal and Industrial

NMISC New Mexico Interstate Stream Commission

O&M Operation and Maintenance

OM&R Operation, maintenance, and replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

New contract action:

10. East Columbia Basin ID, Columbia Basin Project, Washington: Long-term contract to renew master water service contract No. 14-06-100-9165, as supplemented, to authorize the District to deliver a base quantity of up to 90,000 acre-feet of Columbia Basin Project water annually to up to 30,000 First Phase Continuation Acres located within the District, and continue delivery of additional water to land irrigated under the District's repayment contract during the peak period of irrigation water use annually.

Mid-Pacific Region: Bureau of Reclamation, 2800 Cottage Way, Sacramento, California 95825-1898, telephone 916-978-5250.

Completed contract actions:

23. Colusa County WD, CVP, California: Execution of a long-term Warren Act of 1911 contract for conveyance of up to 40,000 acre-feet of groundwater per year through the use of the Tehama-Colusa Canal. Executed a 5-year Warren Act contract for 30,000 acre-feet on August 27, 2014.

39. Conaway Preservation Group, LLC; Sacramento River Division, CVP; California: Proposed assignment of 10,000 acre-feet of water under an existing Sacramento River Settlement Contract to the Woodland-Davis Clean Water Agency. Contract executed on March 24, 2014.

Lower Colorado Region: Bureau of Reclamation, P.O. Box 61470 (Nevada Highway and Park Street), Boulder City, Nevada 89006-1470, telephone 702-293-8192.

New contract action:

23. Yuma County Water Users' Association, Yuma Project, Arizona: Execute a funding agreement for California Check and Wasteway infrastructure improvements to improve operational control and reduce water spills as part of the Western Drought Response activities in Arizona, California, Nevada, and Mexico.

Discontinued contract action:

2. John J. Peach, BCP, Arizona: Develop a Colorado River water delivery contract for 456 acre-feet of Colorado River water per year as recommended by the Arizona Department of Water Resources. Contract executed on December 29, 2014.

Completed contract actions:

16. San Carlos Apache Tribe and the Town of Gilbert, CAP, Arizona: Execute amendment No. 4 to a CAP water lease to extend the term of the lease in order for the San Carlos Apache Tribe to lease 20,000 acre-feet of its CAP water to the Town of Gilbert during calendar year 2015. Contract executed on December 29, 2014.

17. Fort McDowell Yavapai Nation and the Town of Gilbert, CAP, Arizona: Execute amendment No. 4 to a CAP water lease to extend the term of the lease in order for Fort McDowell Yavapai Nation to lease 13,933 acre-feet of its CAP water to the Town of Gilbert during calendar year 2015. Contract executed on November 12, 2014.

18. San Carlos Apache Tribe and the Pascua Yaqui Tribe, CAP, Arizona: Execute a CAP water lease in order for the San Carlos Apache Tribe to lease 2,000 acre-feet of its CAP water to the Pascua Yaqui Tribe during calendar year 2015. Contract executed on January 2, 2015.

Upper Colorado Region: Bureau of Reclamation, 125 South State Street, Room 8100, Salt Lake City, Utah 84138-1102, telephone 801-524-3864.

New contract actions:

26. La Plata Water Conservancy District, Animas-La Plata Project, Colorado: The District has requested a 1-year temporary water service contract for the use of Reclamation shares in the Pine Ridge Ditch for the temporary use of up to 262 acre-feet. A contract is currently being drafted which will determine point(s) of delivery and rate and method of water payments.

27. Carbon Water Conservancy District, Scofield Project, Utah: The District has requested Reclamation's assistance with O&M activities to rehabilitate certain portions of the Scofield Dam outlet works and surrounding area.

28. Provo Reservoir Canal Company, Provo River Project, Utah: The Company has requested a contract to store some of its nonproject water in Deer Creek Reservoir on a space-available basis under the authority of the Warren Act of 1911.

29. Uintah Water Conservancy District; Jensen Unit, CUP; Utah: Jensen Unit M&I Block Notice No. 3 will be issued as required by a 1983 contract with Chevron USA, Inc., for 200 acre-feet of M&I water that is currently being pumped upstream of Red Fleet Reservoir.

30. Uintah Water Conservancy District; Vernal Unit, CUP; Utah: The District desires to pipe the Steinaker Service Canal to improve public safety, decrease O&M costs, and increase water efficiency. This action will require a supplementary O&M contract to modify Federal Reclamation facilities, as well as an agreement written under the authority of the Civil Sundry Appropriations Act of 1921 for Reclamation to accept funds to review designs, inspect project construction, and any other activities requiring Reclamation's participation.

31. Newton Water Users Association, Newton Project; Utah: The Association desires to abandon the Federal canals which distribute water from Newton Reservoir, and replace them with a private pipeline. This requires a supplementary O&M agreement to approve modification to Federal Reclamation facilities and outline the O&M responsibilities during and after construction.

Discontinued contract action:

11. Pinnacle Potash International; Flaming Gorge, CRSP; Utah: Pinnacle Potash International has requested a water service agreement for up to 20,000 acre-feet of M&I water out of Flaming Gorge for potash mining at a place near Crescent Junction, Utah.

Completed contract actions:

7. PacifiCorp Energy Corporation, Emery County Project, Utah: The Corporation has requested renewal of its water service contract for 6,000 acre-feet of project M&I water from Joe's Valley Reservoir, Emery County Project. Contract executed December 22, 2014.

20. Albuquerque Bernalillo County Water Utility Authority, San Juan-Chama Project, New Mexico: Requested a contract to store up to 50,000 acre-feet of project water in Elephant Butte Reservoir. The proposed contract would have a 40-year maximum term, which due to ongoing consultations with the U.S. Fish and Wildlife Service, the existing contract No. 3-CS-53-01510 which expired on January 26, 2008, has been extended annually. The Act of December 29, 1981, Public Law 97-140, 95 Stat. 1717, provides authority to enter into this contract. Reclamation is conducting environmental compliance to proceed with the 40-year contract. In the interim, Reclamation continues to execute annual renewals until a long-term contract can be executed. Contract executed January 29, 2015.

Great Plains Region: Bureau of Reclamation, P.O. Box 36900, Federal Building, 2021 4th Avenue North, Billings, Montana 59101, telephone 406-247-7752.

New contract actions:

54. Fort Cobb Reservoir Master Conservancy District, Fort Cobb Division, Washita River Basin Project: Reclamation intends to enter into an amendment to contract No. 14-06-500-295 to recognize the previously uncommitted irrigation water allocation as available for M&I use.

55. East Bench ID; East Bench Unit, Three Forks Division, P-SMBP; Montana: Consideration of a contract amendment, pursuant to Public Law 112-139; to extend the term of contract No. 14-06-600-3593 through December 31, 2019.

56. Milk River Project, Montana: Proposed amendments to contracts to reflect current land ownership.

57. Teton County Water and Sewer District; Canyon Ferry Unit, P-SMBP; Montana: Consideration of a long-term contract for up to 40 acre-feet of M&I water from Canyon Ferry Reservoir.

58. Sunny Brooks Colony, Inc.; Lower Marias Unit, P-SMBP; Montana: Consideration to enter into a long-term contract for up to 59 acre-feet of M&I water from Lake Elwell.

59. Devon Water Inc.; Lower Marias Unit, P-SMBP; Montana: Proposed 40-year contract for M&I water.

60. Tiber County WD; Lower Marias Unit, P-SMBP; Montana: Proposed 40-year contract for M&I water.

Modified contract actions:

17. Van Amundson; Jamestown Reservoir; Garrison Diversion Unit, P-SMBP; North Dakota: Intent to enter into an individual long-term irrigation water service contract to provide up to 285 acre-feet of water annually for a term of up to 40 years from Jamestown Reservoir, North Dakota.

30. Helena Valley ID; Helena Valley Unit, P-SMBP; Montana: Consideration of a contract to allow for delivery of up to 10,000 acre-feet of water for M&I purposes within the district boundaries.

51. Bostwick Division, P-SMBP: Excess capacity contract with the State of Nebraska and/or State of Kansas entities and/or irrigation districts.

Discontinued contract actions:

35. Dickinson-Heart River Mutual Aid Corporation; Dickinson Unit, P-SMBP; North Dakota: Consideration of an amended long-term irrigation water service contract.

36. Town of Silverthorne, Colorado-Big Thompson Project, Colorado: Consideration of a new long-term water service contract for Green Mountain Reservoir.

43. Edwards Farms, Nebraska Bostwick, P-SMBP: Consideration of a long-term Warren Act contract.

49. Larry TenBensel, Frenchman-Cambridge, P-SMBP: Consideration of a long-term excess capacity contract for the conveyance of nonproject water.

Completed contract actions:

7. Municipal Subdistrict of the Northern Colorado Water Conservancy District, Colorado-Big Thompson Project, Colorado: Consideration of a new long-term contract or amendment of contract No. 4-07-70-W0107 with the Municipal Subdistrict and the Northern Colorado Water Conservancy District for the proposed Windy Gap Firming Project. Contract executed December 19, 2014.

20. Doug and Michelle Hamilton; Boysen Unit, P-SMBP; Wyoming: Renewal of a long-term water service contract. Contract executed December 24, 2014.

21. Frank Robbins; Boysen Unit, P-SMBP; Wyoming: Renewal of a long-term water service contract. Contract executed February 6, 2015.

22. Wade W. Jacobsen; Boysen Unit, P-SMBP; Wyoming: Renewal of a long-term water service contract. Contract executed December 24, 2014.

38. Hillcrest Colony; Canyon Ferry Unit, P-SMBP; Montana: Consideration of a 10-year water service contract. Contract executed September 24, 2014.

39. Allan Davies; Canyon Ferry Unit, P-SMBP; Montana: Renewal of a long-term water service contract. Contract executed January 23, 2015.

42. Canyon Ferry Unit, P-SMBP, Montana: Renewal of 20 various individual water service contracts for small amounts of irrigation and municipal water use. Contracts executed, various dates.

50. Kansas Bostwick ID, P-SMBP: Proposed amendment to original excess capacity contract executed June 2014, or new short-term excess capacity contract for storage and conveyance of nonproject water. Contract executed December 29, 2014.

Dated: March 30, 2015.
Roseann Gonzales,
Director, Policy and Administration.

[FR Doc. 2015-13334 Filed 6-1-15; 8:45 am]

BILLING CODE 4332-90-P